DEPARTMENT OF ENERGY

Federal Energy Regulatory Commission

Notice of FERC Staff Attendance at the Entergy Regional State Committee Working Group and Stakeholders Meeting

The Federal Energy Regulatory Commission hereby gives notice that members of its staff may attend the meeting noted below. Their attendance is part of the Commission's ongoing outreach efforts.

Entergy Regional State Committee Working Group and Stakeholders Meeting

March 14, 2012 (9 a.m.-3 p.m.).

This meeting will be held at the Pan American Life Center, 601 Poydras Street, New Orleans, LA 70130. The Center's phone number is 504-561-1245.

The discussions may address matters at issue in the following proceedings:

Docket No. OA07-32 Entergy Services, Inc.

Docket No. EL00-66 Louisiana Public Service Commission v. Entergy Services, Inc.

Docket No. EL01-88 Louisiana Public Service Commission v. Entergy Services, Inc.

Docket No. EL07-52 Louisiana Public Service Commission v. Entergy Services, Inc.

Docket No. EL08-51 Louisiana Public Service Commission v. Entergy Services, Inc.

Docket No. EL08-60 Ameren Services Co. v. Entergy Services, Inc.

Docket No. EL09-43 Arkansas Public Service Commission v. Entergy Services, Inc.

Docket No. EL09-50 Louisiana Public Service Commission v. Entergy Services, Inc.

Docket No. EL09-61 Louisiana Public Service Commission v. Entergy Services, Inc.

Docket No. EL10-55 Louisiana Public Service Commission v. Entergy Services, Inc.

Docket No. EL10-65 Louisiana Public Service Commission v. Entergy Services, Inc.

Docket No. EL11-34 Midwest Independent System Transmission Operator, Inc.

Docket No. ER05-1065 Entergy Services, Inc.

Docket No. ER07-682 Entergy Services, Inc.

Docket No. ER07-956 Entergy Services, Inc.

Docket No. ER08-1056 Entergy Services, Inc.

Docket No. ER09-833 Entergy Services, Inc.

Docket No. ER09-1224 Entergy Services, Inc.

Docket No. ER10-794 Entergy Services, Inc.

Docket No. ER10-1350 Entergy Services, Inc.

Docket No. ER10-1676 Entergy Services, Inc.

Docket No. ER10-2001 Entergy Arkansas, Inc.

Docket No. ER10-3357 Entergy Arkansas, Inc.

Docket No. ER11-2131 Entergy Arkansas, Inc.

Docket No. ER11-2132 Entergy Gulf States, Louisiana, LLC.

Docket No. ER11-2133 Entergy Gulf States, Louisiana, LLC.

Docket No. ER11-2134 Entergy Mississippi, Inc.

Docket No. ER11-2135 Entergy New Orleans, Inc.

Docket No. ER11-2136 Entergy Texas, Inc.

Docket No. ER11-3156 Entergy Arkansas, Inc.

Docket No. ER11-3657 Entergy Arkansas, Inc.

Docket No. ER12-480 Midwest Independent Transmission System Operator, Inc.

These meetings are open to the public.

For more information, contact Peter Nagler, Office of Energy Market Regulation, Federal Energy Regulatory Commission at (202) 502-6083 or peter.nagler@ferc.gov.

Dated: March 8, 2012 .
Kimberly D. Bose,
Secretary.

[FR Doc. 2012-6120 Filed 3-13-12; 8:45 am]

BILLING CODE 6717-01-P